DEPARTMENT OF TRANSPORTATION

Federal Aviation Administration

14 CFR Part 71

[Airspace Docket No. 00-AAL-15]

Establishment of Class E Airspace; Indian Mountain, AK

AGENCY: Federal Aviation Administration (FAA), DOT.

ACTION: Final rule.

SUMMARY: This action establishes Class E airspace at the Long Range Radar site (LRRS) at Indian Mountain, AK. The United States Air Force requested this action to create controlled airspace for the instrument approach and departure procedures to runway (RWY) 16 and from RWY 34 at Indian Mountain, AK. This action is necessary in order for the approach and departure procedures to be published in the U.S. Government Flight Information Publication, U.S. Terminal Procedures—Alaska. This rule provides adequate controlled airspace for aircraft flying Instrument Flight Rules (IFR) operations at Indian Mountain, AK.

EFFECTIVE DATE: 0901 UTC, March 22, 2001.

FOR FURTHER INFORMATION CONTACT: Major Roger Stirm, Department of the Air Force Representative, Federal Aviation Administration, 222 West 7th Avenue, Box 14, Anchorage, AK 99513-7587; telephone number (907) 271-5892; fax: (907) 271-2850; email: Roger.Stirm@faa.gov. Internet address: http://www.alaska.faa.gov/at or at address http://162.58.28.41/at.

SUPPLEMENTARY INFORMATION:

History

On September 25, 2000, a proposal to amend part 71 of the Federal Aviation Regulations (14 CFR part 71) to establish the Class E airspace at Indian Mountain, AK, was published as a Notice of Proposed Rulemaking (NPRM) in the Federal Register (65 FR 57573). The proposal was requested by the U.S. Air Force to create controlled airspace for the instrument approach and departure procedures to RWY 16 and from RWY 34 at Indian Mountain, AK. This action is necessary in order for the approach and departure procedures to be published in the U.S. Government Flight Information Publication, U.S. Terminal Procedures—Alaska. This rule provides adequate controlled airspace for aircraft flying IFR operations at Indian Mountain, AK.

Interested parties were invited to participate in this rulemaking proceeding by submitting written comments on the proposal to the commenters and the FAA. Public comments to the proposal were submitted by two pilots from United States Fish and Wildlife Service (USFWS), Alaska Aviation Safety Foundation, Alaska Airmen's Association, and Alaska Communications Systems (ACS) Chief Pilot. Each expressed concern with the size of the proposed Class E airspace. The substance of their concern was that the proposed Class E airspace was larger than needed. In addition, Mr. Felix M. Maguire representing both the Alaska Airmen's Association and ACS as their Chief Pilot expressed concern that the approach was barely within the proposed airspace and that the missed approach was entirely outside the proposed airspace. The U.S. Air Force pointed out that the procedures used by Mr. Maguire to evaluate airspace needs were not developed by the U.S. Air Force and therefore have no validity in correctly analyzing the requested airspace. The FAA has considered these comments. The U.S. Air Force, after re-evaluation, responded with a revised request for Class E airspace at Indian Mountain (PAIM). This request substantially reduced the size of the original request and did not include any additional airspace, outside what was proposed in the original NPRM. As for Mr. Maguire's concern about the approach procedure being barely within the proposed airspace and that the missed approach was entirely outside the proposed airspace, the FAA concurs. The additional airspace south of Indian Mountain (PAIM) needed for missed approach and departure procedures is already 1,200 foot Class E airspace and therefore, is not needed in this rulemaking. The majority of the revised requested airspace encompasses the primary holding assessment area in accordance with FAA Order 7130.3. The FAA has determined that the requested airspace is needed to provide adequate controlled airspace for aircraft flying IFR operations at Indian Mountain LRRS, Alaska. The coordinates for Indian Mountain LRRS were published with an error in the latitude coordinates and is corrected to read as follows: (lat. 65° 59′ 34″ N., long. 153° 42′ 16″ W.). The airspace description does overlap existing Class E airspace and the exclusionary verbiage was inadvertently left out. The following verbiage has been added to the end of the airspace description: “excluding the existing Class E airspace.” Accordingly, as discussed, since the revised airspace description is less of a burden to the public, the rule is adopted with the incorporated airspace revisions.

The area will be depicted on aeronautical charts for pilot reference. The coordinates for this airspace docket are based on North American Datum 83. The Class E airspace areas designated as 700/1200 foot transition areas are published in paragraph 6005 of FAA Order 7400.9H, Airspace Designations and Reporting Points, dated September 1, 2000, and effective September 16, 2000, which is incorporated by reference in 14 CFR 71.1. The Class E airspace designations listed in this document will be revised and published subsequently in the Order.

The Rule

This amendment to 14 CFR part 71 establishes Class E airspace at Indian Mountain, AK, through a request by the U.S. Air Force to create controlled airspace for the instrument approach and departure procedures to RWY 16 and from RWY 34 at Indian Mountain, AK. This action is necessary in order for the approach and departure procedures to be published in the U.S. Government Flight Information Publication, U.S. Terminal Procedures—Alaska. The area will be depicted on aeronautical charts for pilot reference. The intended effect of this rule is to provide adequate controlled airspace for IFR operations at Indian Mountain, AK.

The FAA has determined that this regulation only involves an established body of technical regulations for which frequent and routine amendments are necessary to keep them operationally current. It, therefore—(1) Is not a “significant regulatory action” under Executive Order 12866; (2) is not a “significant rule” under DOT Regulatory Policies and Procedures (44 FR 11034; February 26, 1979); and (3) does not warrant preparation of a regulatory evaluation as the anticipated impact is so minimal. Since this is a routine matter that will only affect air traffic procedures and air navigation, it is certified that this rule will not have a significant economic impact on a substantial number of small entities under the criteria of the Regulatory Flexibility Act.

List of Subjects in 14 CFR Part 71

Airspace, Incorporation by reference, Navigation (air).

Adoption of the Amendment

In consideration of the foregoing, the Federal Aviation Administration amends 14 CFR part 71 as follows:

PART 71—DESIGNATION OF CLASS A, CLASS B, CLASS C, CLASS D, AND CLASS E AIRSPACE AREAS; AIRWAYS; ROUTES; AND REPORTING POINTS

1. The authority citation for 14 CFR part 71 continues to read as follows:

Authority: 49 U.S.C. 106(g), 40103, 40113, 40120; E.O. 10854, 24 FR 9565, 3 CFR, 1959-1963 Comp., p. 389.

§ 71.1 [Amended]

2. The incorporation by reference in 14 CFR 71.1 of Federal Aviation Administration Order 7400.9H, Airspace Designations and Reporting Points, dated September 1, 2000, and effective September 16, 2000, is amended as follows:

* * * * *

Paragraph 6005 Class E airspace extending upward from 700 feet or more above the surface of the earth.

* * * * *

AAL AK E5 Indian Mountain, AK [New]

Indian Mountain LRRS, AK

(lat. 65° 59′ 34″ N., long. 153° 42′ 16″ W.)

That airspace extending upward from 700 feet above the surface within a 4 mile radius of Indian Mountain LRRS; and that adjacent airspace extending upward from 1,200 feet above the surface from lat. 66° 00′ 00″ N long. 154° 05′ 00″ W, to lat. 66° 00′ 00″ N long. 153° 00′ 00″ W, to lat. 66° 09′ 00″ N long. 153° 00′ 00″ W, to lat. 66° 09′ 00″ N long. 153° 40′ 00″ W, to lat. 66° 06′ 00″ N long. 154° 00′ 00″, thence to the point of the beginning, excluding the existing Class E airspace.

* * * * *

Issued in Anchorage, AK, on January 2, 2001.
Stephen P. Creamer,
Acting Manager, Air Traffic Division, Alaskan Region.

[FR Doc. 01-701 Filed 1-9-01; 8:45 am]

BILLING CODE 4910-13-U